DEPARTMENT OF COMMERCE

International Trade Administration

[A-475-818]

Certain Pasta From Italy: Final Results of Changed Circumstances Review

AGENCY: Enforcement and Compliance, International Trade Administration, Department of Commerce.

DATES: Effective Date: August 14, 2015.

SUMMARY: On June 12, 2015, the Department of Commerce (the Department) published its notice of initiation and preliminary results of a changed circumstances review (CCR) of the antidumping duty order on Certain Pasta from Italy.¹ The Department preliminarily determined that P.A.P. S.R.L. (PAP SRL) is the successor-in-interest to P.A.P. SNC Di Pazienza G. B. & C. (PAP SNC). No parties submitted comments, and for these final results we continue to find that PAP SRL is the successor-in-interest to PAP SNC.

¹ See Certain Pasta From Italy: Initiation and Preliminary Results of Antidumping Duty Changed Circumstances Review, 80 FR 33480 (June 12, 2015) (Initiation and Preliminary Results).

FOR FURTHER INFORMATION CONTACT: Cindy Robinson or Eric B. Greynolds, AD/CVD Operations, Office III, Enforcement and Compliance, International Trade Administration, U.S. Department of Commerce, 14th Street and Constitution Avenue NW., Washington, DC 20230; telephone: (202) 482-3797 and (202) 482-6071, respectively.

SUPPLEMENTARY INFORMATION:

Background

On April 22, 2015, PAP SRL requested that the Department conduct a CCR to determine whether it is the successor-in-interest to PAP SNC, for purposes of determining antidumping duties due as a result of the Pasta from Italy Order.² On June 12, 2015, the Department published its Initiation and Preliminary Results, in which it preliminarily determined that PAP SRL is the successor-in-interest to PAP SNC.³ The Department invited interested parties to comment on the Preliminary Results.⁴ We received none.

² See Notice of Antidumping Duty Order and Amended Final Determination of Sales at Less Than Fair Value: Certain Pasta From Italy, 61 FR 38547 (July 24, 1996) (Pasta from Italy Order).

³ See Preliminary Results, 80 FR at 33480.

⁴ Id.

Scope of the Order

Imports covered by the order are shipments of certain non-egg dry pasta. The merchandise subject to review is currently classifiable under items 1901.90.90.95 and 1902.19.20 of the Harmonized Tariff Schedule of the United States (HTSUS). Although the HTSUS subheadings are provided for convenience and customs purposes, the written description of the merchandise subject to the order is dispositive.⁵

⁵ For a full description of the scope of the order, see the memorandum titled “Initiation and Preliminary Results of Changed Circumstances Review: Certain Pasta from Italy” from Christian Marsh, Deputy Assistant Secretary for Antidumping and Countervailing Duty Operations, to Ronald K. Lorentzen, Acting Assistant Secretary for Enforcement and Compliance, (Preliminary Decision Memorandum), dated concurrently with the Initiation and Preliminary Results.

Final Results of Changed Circumstances Review

Because no parties submitted comments on the Department's Initiation and Preliminary Results, and because there is no other information or evidence on the record that calls into question the Initiation and Preliminary Results, the Department determines that PAP SRL is the successor-in-interest to PAP SNC for the purpose of determining antidumping duty liability.

Instructions to U.S. Customs and Border Protection

As a result of this determination, we find that PAP SRL should receive the cash deposit rate previously assigned to PAP SNC in the most recently completed review of the antidumping duty order on certain pasta from Italy. Consequently, the Department will instruct U.S. Customs and Border Protection to collect estimated antidumping duties for all shipments of subject merchandise exported by PAP SRL and entered, or withdrawn from warehouse, for consumption on or after the publication date of this notice in the Federal Register at the current cash deposit rate for PAP SNC, which is zero.⁶ This cash deposit requirement shall remain in effect until further notice.

⁶ PAP SNC was a respondent in the 14th administrative review of the Pasta from Italy Order and received a deposit rate of 3.57 percent. See Pasta from Italy: Final Results of the Fourteenth Antidumping Duty Administrative Review, 76 FR 76937 (December 9, 2011). As a result of the “section 129” determination, the company's deposit rate is now zero; see Notice of Implementation of Determination Under Section 129 of the Uruguay Round Agreements Act: Stainless Steel Plate in Coils From Belgium, Steel Concrete Reinforcing Bars From Latvia, Purified Carboxymethylcellulose From Finland, Certain Pasta From Italy, Purified Carboxymethylcellulose From the Netherlands, Stainless Steel Wire Rod From Spain, Granular Polytetrafluoroethylene Resin From Italy, Stainless Steel Sheet and Strip in Coils From Japan, 77 FR 36257 (June 18, 2012). See also, PAP SRL's CCR request dated April 22, 2015.

Notification

This notice serves as a reminder to parties subject to administrative protective order (APO) of their responsibility concerning the disposition of proprietary information disclosed under APO in accordance with 19 CFR 351.306. Timely written notification of the return/destruction of APO materials or conversion to judicial protective order is hereby requested. Failure to comply with the regulations and terms of an APO is a sanctionable violation.

This notice is published in accordance with sections 751(b)(1) and 777(i) of the Tariff Act of 1930, as amended, and 19 CFR 351.216(e).

Dated: August 7, 2015.
Ronald K. Lorentzen,
Acting Assistant Secretary for Enforcement and Compliance.

[FR Doc. 2015-20087 Filed 8-13-15; 8:45 am]

BILLING CODE 3510-DS-P